DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Access to Recovery (ATR) Program—New

In preparation for implementing Performance Partnership Grants, SAMHSA has developed a set of performance outcome measures for substance abuse treatment that cover seven domains. The domains are: Abstinence from drug use and alcohol abuse, or decreased mental illness symptomatology; increased or retained employment and school enrollment; decreased involvement with the criminal justice system; increased stability in family and living conditions; increased access to services; increased retention in services for substance abuse treatment or decreased utilization of psychiatric inpatient beds for mental health treatment; and increased social connectedness to family, friends, co-workers and classmates.

SAMHSA's Center for Substance Abuse Treatment (CSAT), is responsible for implementing the new Access to Recovery (ATR) grant program. States funded in the ATR program will use these outcome measures to meet the reporting requirements of the Government Performance and Results Act (GPRA) by quantifying the effects and accomplishments of the funded programs. The ATR Program is part of a Presidential initiative to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting data from their clients at intake, discharge, at 30 days after intake, and every two months during an episode of care. An episode of care is defined as a client's entry to and exit from the ATR.

The following tables summarize the annual response burden for the ATR activities using the performance outcome measures.

Data collection point | Number of respondents | Responses per respondent | Total responses | Hours per response | Total hour burden (proportion of added burden)*
Client Interviews:
ATR Intake | 42,095 | 1 | 42,095 | 0.33 | 7,640
Discharge/30 day interview** | 42,095 | 1 | 42,095 | 0.33 | 13,891
3 months | 28,625 | 1 | 28,625 | 0.33 | 9,446
5 months | 22,732 | 1 | 22,732 | 0.33 | 7,502
7 months | 18,101 | 1 | 18,101 | 0.33 | 5,973
9 months | 15,155 | 1 | 15,155 | 0.33 | 5,001
11 months | 11,787 | 1 | 11,787 | 0.33 | 3,890
12 months*** | 7,999 | 1 | 7,999 | 0.33 | 2,640
Total | 188,589 |  | 188,589 |  | 55,983
Record Management by Provider Staff:
Sections A and G per client at each data collection point after intake | ¹ 146,494 | 1 | 146,494 | .16 | 23,439
Voucher information and transaction | 42,095 | 1.5 | 63,143 | .03 | 1,894
Provider staff total per client | 188,589 |  | 209,637 |  | 25,333
Grantees (14 States and 1 Tribal Organization):
Grantee extract and upload | 15 | 4 | 60 | .03 | 2
Total | 377,193 |  | 398,226 |  | 81,318
* This estimate is an added burden proportion which is an adjustment reflecting the extent to which programs typically already collect the data items. The formula for calculating the proportion of added burden is: total number of items in the standard instrument, minus the number of core items currently included, divided by the total number of items in the standard instrument. Thus, 13,891 times .55 proportion of added burden = 7,640. This only applies to the intake interview.
** The ATR interview will be administered every 2 months beginning at 30 days. It is assumed that those who are discharged at 30 days or less will receive an intake and discharge interview only and are included in the number in the first two rows. The number of respondents who are still in treatment by month is based on experience with CSAT's GPRA services data.
*** Based on experience with CSAT's GPRA services data, it is expected that few clients will still be in treatment longer than 12 months.
\1\ Clients.

Written comments and recommendations concerning the proposed information collection should be sent by February 28, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: (202) -395-6974.

Dated: January 24, 2005.
Anna Marsh,
Executive Officer, SAMHSA.

[FR Doc. 05-1583 Filed 1-27-05; 8:45 am]

BILLING CODE 4162-20-P